DEPARTMENT OF TRANSPORTATION

Federal Motor Carrier Safety Administration

[Docket No. FMCSA-2019-0054]

Request for Information Concerning Commercial Motor Vehicle Driver Detention Times During Loading and Unloading

AGENCY: Federal Motor Carrier Safety Administration (FMCSA), DOT.

ACTION: Request for information.

SUMMARY: FMCSA requests information on existing or potential sources of data to better understand driver detention times during the loading and unloading of commercial motor vehicles (CMVs) and the potential impact of such delays on roadway safety. A recent study by the U.S. Department of Transportation's (DOT) Office of Inspector General found that better data are needed to fully understand the issues associated with driver detention.

DATES: Comments on this notice must be received on or before September 9, 2019.

ADDRESSES: You may submit comments identified by Docket Number FMCSA-2019-0054 using any of the following methods:

• Federal eRulemaking Portal: http://www.regulations.gov. Follow the online instructions for submitting comments.

• Mail: Docket Management Facility, U.S. Department of Transportation, Room W12-140, 1200 New Jersey Avenue SE, Washington, DC 20590-0001.

• Hand Delivery or Courier: West Building, Ground Floor, Room W12-140, 1200 New Jersey Avenue SE, Washington, DC 20590-0001 between 9 a.m. and 5 p.m. ET, Monday through Friday, except Federal holidays.

• Fax: 1-202-493-2251.

Instructions: Each submission must include the Agency name and the docket number for this notice. Note that DOT posts all comments received without change to www.regulations.gov, including any personal information included in a comment. Please see the Privacy Act heading below.

Docket: For access to the docket to read background documents or comments, go to www.regulations.gov at any time or visit Room W12-140 on the ground level of the West Building, 1200 New Jersey Avenue SE, Washington, DC 20590-0001 between 9 a.m. and 5 p.m., ET, Monday through Friday, except Federal holidays. The online FDMS is available 24 hours each day, 365 days each year. If you want acknowledgment that we received your comments, please include a self-addressed, stamped envelope or postcard or print the acknowledgement page that appears after submitting comments on-line.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: For information concerning this notice, contact Ms. Nicole Michel, Research Division, Office of Analysis, Research and Technology, FMCSA, 1200 New Jersey Avenue SE, Washington, DC 20590-0001, (202) 366-4354, nicole.michel@dot.gov. If you have questions on viewing or submitting material to the docket, contact Docket Services at (202) 366-9826.

SUPPLEMENTARY INFORMATION:

I. Public Participation and Request for Comments

Submitting Comments

If you submit a comment, please include the docket number for this notice (FMCSA-2019-0054), indicate the specific question of this document to which each comment applies, and provide a source for your data. You may submit your comments and material online or by fax, mail, or hand delivery, but please use only one of these means. FMCSA recommends that you include your name and mailing address, an email address, or a phone number in the body of your document so that FMCSA can contact you if there are questions regarding your submission.

To submit your comment online, go to http://www.regulations.gov, put the docket number, FMCSA-2019-0054, in the “Keyword” box, and click “Search.” When the new screen appears, click on the “Comment Now!” button and type your comment into the text box on the following screen. Choose whether you are submitting your comment as an individual or on behalf of a third party and then submit.

If you submit your comments by mail or hand delivery, submit them in an unbound format, no larger than 8½ by 11 inches, suitable for copying and electronic filing. If you submit comments by mail and would like to know that they reached the facility, please enclose a stamped, self-addressed postcard or envelope.

FMCSA will consider all comments and material received during the comment period.

Confidential Business Information

Confidential Business Information (CBI) is commercial or financial information that is customarily not made available to the general public by the submitter. Under the Freedom of Information Act, CBI is eligible for protection from public disclosure. If you have CBI that is relevant or responsive to this notice, it is important that you clearly designate the submitted comments as CBI. Accordingly, please mark each page of your submission as “confidential” or “CBI.” Submissions designated as CBI and meeting the definition noted above will not be placed in the public docket of this notice. Submissions containing CBI should be sent to Mr. Brian Dahlin, Chief, Regulatory Evaluation Division, Federal Motor Carrier Safety Administration, 1200 New Jersey Avenue SE, Washington, DC 20590-0001. Any commentary that FMCSA receives which is not specifically designated as CBI will be placed in the public docket for this notice.

Viewing Comments and Documents

To view comments, as well as any documents mentioned in this preamble as being available in the docket, go to http://www.regulations.gov. Insert the docket number, FMCSA-2019-0054, in the keyword box, and click “Search.” Next, click the “Open Docket Folder” button and choose the document to review. If you do not have access to the internet, you may view the docket by visiting the Docket Management Facility in Room W12-140 on the ground floor of the West Building, 1200 New Jersey Avenue SE, Washington, DC 20590, between 9 a.m. and 5 p.m., ET, Monday through Friday, except Federal holidays.

II. Background

A number of studies have examined the issue of CMV driver delays in the loading and unloading process, and what their potential impact may be on roadway safety and the economy. For example, in 2011 the Government Accountability Office (GAO), in its report More Could Be Done to Determine Impact of Excessive Loading and Unloading Wait Times on Hours of Service Violations (GAO-11-198),¹ recommended that “FMCSA examine the extent to which detention time contributes to hours of service violations in its future studies on driver fatigue and detention time.” In response to the GAO report, FMCSA sponsored a study ² among a sample of carriers which generated estimates of driver delay times. Among the sampled carriers, the study found that drivers experienced detention time during approximately 10 percent of their stops for an average duration of 1.4 hours beyond a commonly accepted two-hour loading and unloading period [total driver wait time = (legitimate loading/unloading time) + (delay times)]. Most recently, in a 2018 report titled Estimates Show Commercial Driver Detention Increases Crash Risks and Costs, but Current Data Limit Further Analysis,³ DOT's Office of Inspector General recommended that FMCSA collaborate with industry stakeholders to develop and implement a plan to collect and analyze reliable, accurate, and representative data on the frequency and severity of driver detention.

¹ https://www.gao.gov/assets/320/315297.pdf.

² Driver Detention Times in Commercial Motor Vehicle Operations (December 2014), https://rosap.ntl.bts.gov/view/dot/194/dot_194_DS1.pdf?

³ https://www.oig.dot.gov/library-item/36237.

Although the above referenced studies estimated overall wait times, they were not able to separate normal loading and unloading times (e.g., the time it would usually take to load and unload a CMV under typical schedules) from detention time (delays in the start of the loading and unloading process which disrupt the driver's available driving and/or on-duty time). This is a critical data gap in our understanding of the detention issue.

FMCSA is interested in data sources, methodologies, and potential technologies that could provide insight into loading and unloading delays experienced by CMV drivers.

III. Request for Information

Specifically, FMCSA requests information that addresses the following questions:

1. Are data currently available that can accurately record loading, unloading, and delay times?

2. Is there technology available that could record and delineate prompt loading and unloading times versus the extended delays sometimes experienced by drivers?

3. How can delay times be captured and recorded in a systematic, comparable manner?

4. Could systematic collection and publication of loading, unloading, and delay times be useful in driver or carrier business decisions and help to reduce loading, unloading, and delay times?

5. What should FMCSA use as an estimate of reasonable loading/unloading time? Please provide a basis for your response.

6. How do contract arrangements between carriers and shippers address acceptable wait times? Do these arrangements include penalties for delays attributable to a carrier or shipper?

7. What actions by FMCSA, within its current statutory authority, would help to reduce loading, unloading, and delay times?

Issued under authority delegated in 49 CFR 1.87 on: June 4, 2019.
Raymond P. Martinez,
Administrator.

[FR Doc. 2019-12167 Filed 6-7-19; 8:45 am]

BILLING CODE 4910-EX-P